COMMISSION ON CIVIL RIGHTS

Agenda and Notice of Public Meeting of the Arizona Advisory Committee

Notice is hereby given, pursuant to the provisions of the rules and regulations of the U.S. Commission on Civil Rights, that a planning meeting with briefing of the Arizona Advisory Committee to the Commission will convene at 9 a.m. and adjourn at 3 p.m. on August 23, 2002, at the Radisson Hotel City Center, 181 W. Broadway, Tucson, Arizona 85701. The purpose of the planning meeting with briefing is to hold new member orientation and discuss the United States-Mexico border crossing fatalities.

Persons desiring additional information, or planning a presentation to the Committee, should contact Philip Montez, Director of the Western Regional Office, 213-894-3437 (TDD 213-894-3435). Hearing-impaired persons who will attend the meeting and require the services of a sign language interpreter should contact the Regional Office at least ten (10) working days before the scheduled date of the meeting.

The meeting will be conducted pursuant to the provisions of the rules and regulations of the Commission.

Dated at Washington, DC, July 31, 2002.
Ivy L. Davis,
Chief, Regional Programs Coordination Unit.

[FR Doc. 02-19778 Filed 8-5-02; 8:45 am]

BILLING CODE 6335-01-P